DEPARTMENT OF DEFENSE

Office of the Secretary

Defense Science Board; Notice of Advisory Committee Meeting Date Change

AGENCY: Department of Defense.

ACTION: Notice of advisory committee meeting date change.

SUMMARY: The Defense Science Board (DBS) Task Force on Systems Technology for the Future U.S. Strategic Posture closed meeting scheduled for May 16-17, 2001, has been changed to May 30-31, 2001. The meeting will be held at Strategic Analysis Inc., 3601 Wilson Boulevard, Suite 600, Arlington, VA.

Dated: April 25, 2001.
L.M. Bynum,
Alternate OSD Federal Register Liaison Officer, Department of Defense.

[FR Doc. 01-10895 Filed 5-1-01; 8:45 am]

BILLING CODE 5001-10-M